ENVIRONMENTAL PROTECTION AGENCY

[EPA-HQ-OAR-2006-0947; FRL-9905-52-OEI]

Information Collection Request Submitted to OMB for Review and Approval; Comment Request; NOX Budget Trading Program To Reduce the Regional Transport of Ozone (Renewal)

AGENCY: Environmental Protection Agency (EPA).

ACTION: Notice.

SUMMARY: The Environmental Protection Agency has submitted an information collection request (ICR), “Information Collection Request Renewal for the NOX Budget Trading Program to Reduce the Regional Transport of Ozone” (EPA ICR No. 1857.06, OMB Control No. 2060-0445) to the Office of Management and Budget (OMB) for review and approval in accordance with the Paperwork Reduction Act (44 U.S.C. 3501 et seq.). This is a proposed extension of the ICR, which is currently approved through February 28, 2014. Public comments were previously requested via the Federal Register (78 FR 57153) on September 17, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before February 20, 2014.

ADDRESSES: Submit your comments, referencing Docket ID Number EPA-HQ-OAR-2006-0947, to (1) EPA online using www.regulations.gov (our preferred method), by email to a-and-r-docket@epamail.epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Karen VanSickle, Clean Air Markets Division, Office of Air and Radiation, (6204J), Environmental Protection Agency, 1200 Pennsylvania Ave. NW., Washington, DC 20460; telephone number (202) 343-9220; fax number: (202) 343-2361; email address: vansickle.karen@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The NOX Budget Trading Program was a market-based cap and trade program created to reduce emissions of nitrogen oxides (NOX) from power plants and other large combustion sources in the eastern United States. NOX is a prime ingredient in the formation of ground-level ozone (smog), a pervasive air pollution problem in many areas of the eastern United States. The NOX Budget Trading Program was established as an optional implementation mechanism for the NOX State Implementation Plan (SIP) Call and was designed to reduce NOX emissions during the warm summer months, referred to as the ozone season, when ground-level ozone concentrations are highest. In 2009 the program was replaced by the Clean Air Interstate Rule (CAIR) Ozone Season Trading Program. The renewal of this ICR is necessary primarily because some sources in certain States are still required to monitor and report emissions data to EPA under those states' NOX SIP Call rules. All data received by EPA will be treated as public information. An agency may not conduct or sponsor, and a person is not required to respond to, a collection of information unless it displays a currently valid OMB control number. The OMB control numbers for EPA's regulations in 40 CFR are listed in 40 CFR part 9.

Form Numbers: EPA form number 7620-16.

Respondents/affected entities: Entities potentially affected by this action are those which formerly participated in the NOX Budget Trading Program to Reduce the Regional Transport of Ozone and which continue to have reporting obligations under their states' NOX SIP Call rules that are not duplicated under other rules.

Respondent's obligation to respond: mandatory (Sections 110(a) and 301(a) of the Clean Air Act).

Estimated number of respondents: EPA estimates that there are 122 former NOX Budget Trading Program units that will continue to conduct monitoring in accordance with Part 75 solely under the NOX SIP call.

Frequency of response: yearly, quarterly, occasionally.

Total estimated burden: 57,586 hours (per year). Burden is defined at 5 CFR 1320.3(b).

Total estimated cost: $8,066,616 (per year), includes $3,777,000 annualized capital or operation & maintenance costs.

Changes in the Estimates: There is no increase in the hours in the total estimated respondent burden compared with the ICR currently approved by OMB.

John Moses,
Director, Collection Strategies Division.

[FR Doc. 2014-01051 Filed 1-17-14; 8:45 am]

BILLING CODE 6560-50-P